DEPARTMENT OF COMMERCE

Census Bureau

Agency Information Collection Activities; Submission to the Office of Management and Budget (OMB) for Review and Approval; Comment Request; Census Household Panel Topical 7, Topical 8, and Topical 9 Operations

On February 26, 2024, the Department of Commerce received clearance from the Office of Management and Budget (OMB) in accordance with the Paperwork Reduction Act of 1995 to conduct the fourth, fifth, and sixth Census Household Panel topical operations (OMB No. 0607-1025, Exp. 6/30/26). The Census Household Panel is designed to ensure availability of frequent data collection for nationwide estimates on a variety of topics for a variety of subgroups of the population. This notice serves to inform of the Department's intent to request clearance from OMB to conduct topical operations 7, 8, and 9.

The Topical 7 (May) questionnaire will ask respondents about their opinions on government data collection and data use. The June survey (Topical 8) will test changes to the Current Population Survey's Annual Social and Economic Supplement (ASEC) interviewer administered questions for suitability in internet self-response mode. Specifically, the items tested include questions on health insurance, out-of-pocket medical costs, migration, and child care. Similarly, for the July topical questionnaire (Topical 9), interviewer administered ASEC questions will be tested for suitability in internet self-response mode. These items include pensions, retirement (withdrawals, interest, and contributions), and SNAP and school meal receipt, which are key income sources used to measure the level of poverty in the U.S. The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 6, 2023, during a 60-day comment period. This notice allows for an additional 30 days for public comments.

Agency: U.S. Census Bureau, Department of Commerce.

Title: Census Household Panel Topical 7, Topical 8, and Topical 9 Operations.

OMB Control Number: 0607-1025.

Form Number(s): Not yet determined.

Type of Request: Request for a Revision of a Currently Approved Collection.

Number of Respondents: 10,367 panel members.

Average Hours per Response: 4 hours per year (20 minutes for monthly collection).

Burden Hours: 41,427.

Needs and Uses: The Census Household Panel is a probability-based nationwide nationally-representative survey panel designed to test the methods to collect data on a variety of topics of interest, and for conducting experimentation on alternative question wording and methodological approaches. The goal of the Census Household Panel is to ensure availability of frequent data collection for nationwide estimates on a variety of topics and a variety of subgroups of the population, meeting standards for transparent quality reporting of the Federal Statistical Agencies and the Office of Management and Budget (OMB).

Panelists and households selected for the Panel were recruited from the Census Bureau's gold standard Master Address File. This ensures the Panel is rooted in this rigorously developed and maintained frame and available for linkage to administrative records securely maintained and curated by the Census Bureau. Invitations to complete the monthly surveys will be sent via email and SMS messages. Questionnaires will be mainly internet self-response. The Panel will maintain representativeness by allowing respondents who do not use the internet to respond via computer-assisted telephone interviewing (CATI). All panelists will receive an incentive for each complete questionnaire. Periodic replenishment samples will maintain representativeness and panelists will be replaced after a period of three years.

Affected Public: Individuals or Households.

Frequency: Monthly.

Respondent's Obligation: Voluntary.

Legal Authority: Title 13, United States Code, Sections 141, 182 and 193.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1025.

Sheleen Dumas,
Department PRA Clearance Officer, Office of the Under Secretary for Economic Affairs, Commerce Department.

[FR Doc. 2024-07406 Filed 4-5-24; 8:45 am]

BILLING CODE 3510-07-P